DEPARTMENT OF STATE

[Public Notice 6078]

Shipping Coordinating Committee; Notice of Meeting

The Shipping Coordinating Committee (SHC) through the Subcommittee on Standards of Training, Certification and Watchkeeping will conduct an open meeting at 9:30 a.m. on February 19, 2007. The meeting will be held in Room 10-623/0718 of Jemal's Riverside Building, 1900 Half Street, SW., Washington, DC 20593. The purpose of the meeting is to prepare for the 39th session of the International Maritime Organization (IMO) Sub-Committee on Standards of Training and Watchkeeping (STW 39) to be held on March 3-7, 2008, at the Royal Horticultural Halls and Conference Centre in London, England. The primary matters to be considered include:

—Comprehensive review of the International Convention on Standards of Training, Certification and Watchkeeping for Seafarers (STCW Convention) and the STCW Code;

—Training for seafarer safety representatives;

—Unlawful practices associated with certificates of competency;

—Validation of model training courses;

—Review of principles for establishing the safe manning levels of ships; and

—Training requirements for the control and management of ship's ballast water and sediments.

Please note that hard copies of documents associated with STW 39 will not be available at this meeting, the documents will be available at the meeting in portable document format (.pdf) on CD-ROM. To request documents before the meeting please write to the address provided below, and include your name, address, phone number, and electronic mail address. Copies of the papers will be sent via electronic mail to the address provided.

Members of the public may attend the meeting up to the seating capacity of the room. Interested persons may seek information by writing: Mayte Medina, U.S. Coast Guard (CG-5221), Room 1210, 2100 Second St., SW., Washington, DC 20593-0001 or by calling; (202) 372-1406.

Dated: January 28, 2008.
Mark W. Skolnicki,
Executive Secretary, Shipping Coordinating Committee, Department of State.

[FR Doc. E8-1952 Filed 2-1-08; 8:45 am]

BILLING CODE 4710-09-P